DEPARTMENT OF JUSTICE

28 CFR Part 0

[Order No. 2314-2000]

Delegation of Authority: Settlement Authority

AGENCY: Department of Justice.

ACTION: Final rule.

SUMMARY: This rule delegates authority to the Director of the Federal Bureau of Investigation (FBI) to settle administrative claims presented pursuant to the Federal Tort Claims Act (FTCA), where the amount of the settlement does not exceed $50,000. Currently, the Director of the FBI has authority to settle FTCA claims not exceeding $10,000. This rule will alert the general public to the Federal Bureau of Investigation's new authority and is being codified in the Code of Federal Regulations to provide a permanent record of this delegation.

EFFECTIVE DATE: July 19, 2000.

FOR FURTHER INFORMATION CONTACT: Larry R. Parkinson, General Counsel, Federal Bureau of Investigation, U.S. Department of Justice, 935 Pennsylvania Ave. NW, Washington, DC 20535; (202) 324-3000.

SUPPLEMENTARY INFORMATION: This rule has been issued to delegate settlement authority and is a matter solely related to the division of responsibility within the Department of Justice. It relates to matters of agency policy, management, or personnel, and is therefore exempt from the usual requirements of prior notice and comment, and a 30-day delay in the effective date. See 5 U.S.C. 553(a)(2), (b)(A).

Executive Order 12866

This rule falls within a category of actions that the Office of Management and Budget (OMB) has determined not to constitute “significant regulatory actions” under section 3(f) of Executive Order 12866 and, accordingly, was not reviewed by OMB.

Executive Order 13132

This regulation will not have substantial direct effects on the States, on the relationship between the national government and the States, or on the distribution of power and responsibilities among the various levels of government. Therefore, in accordance with Executive Order 13132 the Department of Justice has determined that this rule does not have sufficient federalism implications to warrant the preparation of a federalism summary impact statement.

Regulatory Flexibility Act

The Attorney General, in accordance with the Regulatory Flexibility Act, 5 U.S.C. 605(b), has reviewed this regulation and, by approving it, certifies that this regulation will not have a significant economic impact upon a substantial number of small entities. This rule pertains to delegations of authority within the Department of Justice and does not affect the Department of Justice's overall authority to act on tort claims.

Unfunded Mandates Reform Act of 1995

This rule will not result in the expenditure by State, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by section 251 of the Small Business Regulatory Enforcement Fairness Act of 1996. 5 U.S.C. 804. This rule will not result in an annual effect on the economy of $100,000,000 or more; a major increase in costs or prices; or significant adverse effects on competition, employment, investment, productivity, innovation; or on the ability of United States-based companies to compete with foreign-based companies in domestic and export markets.

Plain Language Instructions

We try to write clearly. If you can suggest how to improve the clarity of these regulations, call or write Larry R. Parkinson at the address and telephone number given above.

List of Subjects in 28 CFR Part 0

Authority delegations (Government agencies), Government employees, Organization and functions (Government agencies), Whistleblowing.

Accordingly, part 0 of title 28 of the Code of Federal Regulations is amended as follows:

PART 0—ORGANIZATION OF THE DEPARTMENT OF JUSTICE

1. The authority for part 0 continues to read as follows:

Authority: 5 U.S.C. 301; 28 U.S.C. 509, 510, 515-519.

2. Section 0.89a of part 0, subpart P, is amended by revising paragraph (a) to read as follows:

§ 0.89a Delegations respecting claims against the FBI.

(a) The Director of the Federal Bureau of Investigation is authorized to exercise the power and authority vested in the Attorney General Under 28 U.S.C. 2672 to consider, ascertain, adjust, determine, and settle any claim thereunder not exceeding $50,000 in any one case caused by the negligent or wrongful act or omission of any employee of the Federal Bureau of Investigation.

* * * * *

Dated: July 11, 2000.
Janet Reno,
Attorney General.

[FR Doc. 00-18213 Filed 7-18-00; 8:45 am]

BILLING CODE 4410-02-M